DEPARTMENT OF THE INTERIOR

Bureau of Land Management

[LLES960000.L14400000.ET0000.223; MNES-059784]

Notice of Application for Withdrawal and Segregation of Federal Lands; Cook, Lake, and Saint Louis Counties, Minnesota

Correction

In notice document 2021-22958, appearing on pages 58299-58301 in the issue of Thursday, October 21, 2021, make the following change:

On page 58300, in the second column, lines 42 and 43 are corrected to read as follows:

“Tps. 57 to 63 N., Rs. 11 W.”

“Tp. 59 N., R. 12 W.”

[FR Doc. C1-2021-22958 Filed 11-10-21; 8:45 am]

BILLING CODE 0099-10-D